DEPARTMENT OF ENERGY

Federal Energy Regulatory Commission

Combined Notice of Filings #1

Take notice that the Commission received the following electric rate filings:

Docket Numbers: ER10-1894-004; ER10-1901-005; ER10-1882-001; ER10-3025-001; ER10-3036-001; ER10-3039-001; ER10-3042-001.

Applicants: Wisconsin Public Service Corporation, Upper Peninsula Power Company, Integrys Energy Services, Inc., Wisconsin River Power Company, Quest Energy, LLC, WPS Power Development, LLC, Combined Locks Energy Center, LLC.

Description: The Integrys Energy Group submits Updated Market Analysis for their market based rate authority in the Central Region.

Filed Date: 6/26/12.

Accession Number: 20120626-5146.

Comments Due: 5 p.m. ET 8/27/12.

Docket Numbers: ER10-2839-001.

Applicants: Midland Cogeneration Venture Limited Partnership.

Description: Updated Market Power Analysis of Midland Cogeneration Venture Limited Partnership.

Filed Date: 6/27/12.

Accession Number: 20120627-5061.

Comments Due: 5 p.m. ET 8/27/12.

Docket Numbers: ER12-1803-001.

Applicants: Cleco Power LLC.

Description: Compliance Filing to be effective 5/14/2012.

Filed Date: 6/27/12.

Accession Number: 20120627-5034.

Comments Due: 5 p.m. ET 7/18/12.

Docket Numbers: ER12-2071-002.

Applicants: Verde Energy USA New York, LLC.

Description: Revised Amended MBR Filing to be effective 8/20/2012.

Filed Date: 6/27/12.

Accession Number: 20120627-5029.

Comments Due: 5 p.m. ET 7/18/12.

Docket Numbers: ER12-2112-000.

Applicants: ISO New England Inc.

Description: ISO New England Inc. Informational Filing Related to the Peak Energy Rent Feature of the Forward Capacity Market.

Filed Date: 6/26/12.

Accession Number: 20120626-5161.

Comments Due: 5 p.m. ET 7/17/12.

Docket Numbers: ER12-2113-000.

Applicants: Hess Small Business Services LLC.

Description: Market-Based Rate Tariff Revisions to be effective 6/28/2012.

Filed Date: 6/27/12.

Accession Number: 20120627-5066.

Comments Due: 5 p.m. ET 7/18/12.

Docket Numbers: ER12-2114-000.

Applicants: Carolina Power & Light Company.

Description: Rate Schedule No. 184 of Carolina Power and Light Company to be effective 7/1/2012.

Filed Date: 6/27/12.

Accession Number: 20120627-5072.

Comments Due: 5 p.m. ET 7/18/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2012.
Nathaniel J. Davis, Sr.,
Deputy Secretary.

[FR Doc. 2012-16386 Filed 7-3-12; 8:45 am]

BILLING CODE 6717-01-P